EXPORT-IMPORT BANK

Sunshine Act Meetings

Notice of Open Meeting of the Advisory Committee of the Export-Import Bank of the United States (EXIM).

TIME AND DATE: Thursday, November 18th, 2021 from 1:30-4:00 p.m. EDT.

PLACE: The meeting will be held virtually.

STATUS: Public Participation: The meeting will be open to public participation and time will be allotted for questions or comments submitted online. Members of the public may also file written statements before or after the meeting to external@exim.gov. Interested parties may register below for the meeting.

https://teams.microsoft.com/registration/PAFTuZHHMk2Zb1GDkIVFJw,5M1LfonJMEi2VFUgYRv6oQ,i145n2l9vkmDj5btNlkuGw,6pffizIY90ejfY7ZxOQxYA,rpZ5FoIsIUSTq6hUxDUGrQ,ALPUR1YOwUOm02kL5pavxw?mode=read&tenantId=b953013c-c791-4d32-996f-518390854527.

MATTERS TO BE CONSIDERED: Discussion of EXIM policies and programs to provide competitive financing to expand United States exports and comments for inclusion in EXIM's Report to the U.S. Congress on Global Export Credit Competition.

CONTACT PERSON FOR MORE INFORMATION: For further information, contact India Walker, External Enagagement Specialist, at 202-480-0062 or at india.walker@exim.gov.

Joyce B. Stone,
Assistant Corporate Secretary.

[FR Doc. 2021-25385 Filed 11-17-21; 11:15 am]

BILLING CODE 6690-01-P